DEPARTMENT OF LABOR

Employment and Training Administration

[NAFTA-05251, NAFTA-05251A]

Willamette Industries, Inc., Korpine Particleboard Division Now Known as Weyerhaeuser Company Including Temporary Workers of Express Personnel Services, Bend, OR and Willamette Industries, Inc., Particleboard Sales Office, Now Known as Weyerhaeuser Company, Albany, OR, Amended Certification Regarding Eligibility To Apply for NAFTA—Transitional Adjustment Assistance

In accordance with section 250(a), Subchapter D, Chapter 2, Title II, of the Trade Act of 1974, as amended (19 U.S.C. 2273), the Department of Labor issued a Certification of Eligibility to Apply for NAFTA Transitional Adjustment Assistance on December 7, 2001, applicable to workers of Willamette Industries, Inc., Korpine Division, Bend, Oregon. The notice was published in the Federal Register on December 26, 2001 (66 FR 66427). The certification was amended on February 4, 2002 to include workers of the Particleboard Sales Office of the subject firm located in Albany, Oregon. The notice was published in the Federal Register on February 13, 2002 (67 FR 6753).

At the request of the State agency, the Department reviewed the certification for workers of the subject firm. Information provided by the State and the company shows that Weyerhaeuser Company purchased Willamette Industries, Inc. in March 2002 and is now known as Weyerhaeuser Company.

Accordingly, the Department is amending the certification determination to properly reflect this matter.

The intent of the Department's certification is to include all workers of Willamette Industries, Inc., Korpine Particleboard Division and the Particleboard Sales Office, now known as Weyerhaeuser Company who were affected by increased customer imports of industrial pine particleboard from Canada and Mexico.

The amended notice applicable to NAFTA-05251 and NAFTA-05251A are hereby issued as follows:

All workers of Willamette Industries, Inc., Korpine Particleboard Division, now known as Weyerhaeuser Company, Bend, Oregon including temporary workers of Express Personnel Services, Bend, Oregon (NAFTA-5251) engaged in employment related to the production of industrial pine particleboard at Willamette Industries, Inc., Korpine Particleboard Division, now known as Weyerhaeuser Company, Bend, Oregon, and all workers of Willamette Industries, Particleboard Sales Office, now known as Weyerhaeuser Company, Albany, Oregon (NAFTA-5251A) who became totally or partially separated from employment on or after August 17, 2000, through December 7, 2003, are eligible to apply for NAFTA-TAA under section 250 of the Trade Act of 1974.

Signed in Washington, DC this 9th day of April, 2002.
Linda G. Poole,
Certifying Officer, Division of Trade Adjustment Assistance.

[FR Doc. 02-9748 Filed 4-19-02; 8:45 am]

BILLING CODE 4510-30-M